DEPARTMENT OF TRANSPORTATION

Federal Transit Administration

FY 2026 Competitive Funding Opportunity: All Stations Accessibility Program

AGENCY: Federal Transit Administration (FTA), Department of Transportation (DOT).

ACTION: Notice of funding opportunity (NOFO).

SUMMARY: The Federal Transit Administration (FTA) announces the opportunity to apply for $686 million in competitive grants for the Fiscal Year (FY) 2026 All Stations Accessibility Program.

DATES: Complete proposals must be submitted electronically through the GRANTS.GOV “APPLY” function by 11:59 p.m. Eastern time May 1, 2026.

FOR FURTHER INFORMATION CONTACT: Email Thomas Wilson, Office of Program Management, at thomas.wilson@dot.gov or (202) 366-2053.

SUPPLEMENTARY INFORMATION: The full text of the Notice of Funding Opportunity (NOFO) can be found on FTA's website at https://www.transit.dot.gov/funding/grants/notices and in the “FIND” module of GRANTS.GOV. The funding opportunity ID is FTA-2026-001-TPM-ASAP. Mail and fax submissions will not be accepted.

Matthew J. Welbes,
Executive Director.

[FR Doc. 2026-04027 Filed 2-27-26; 8:45 am]

BILLING CODE 4910-57-P